NUCLEAR REGULATORY COMMISSION

10 CFR Part 72

[NRC-2011-0221]

RIN 3150-AJ05

List of Approved Spent Fuel Storage Casks: HI-STORM 100, Revision 8

AGENCY: Nuclear Regulatory Commission.

ACTION: Direct final rule; confirmation of effective date.

SUMMARY: The U.S. Nuclear Regulatory Commission (NRC or the Commission) is confirming the effective date of May 2, 2012, for the direct final rule that was published in the Federal Register on February 17, 2012. This direct final rule amends the NRC's spent fuel storage regulations by revising the Holtec International HI-STORM 100 System listing within the “List of Approved Spent Fuel Storage Casks” to include Amendment No. 8 to Certificate of Compliance (CoC) Number 1014.

DATES: The effective date for the direct final rule published February 17, 2012, at 77 FR 9515, is confirmed as May 2, 2012.

ADDRESSES: Please refer to Docket ID NRC-2011-0221 when contacting the NRC about the availability of information regarding this document. You may access information related to this document, which the NRC possesses and is publicly-available, using the following methods:

• Federal Rulemaking Web site: Go to http://www.regulations.gov and search for Docket ID NRC-2011-0221. Address questions about NRC dockets to Carol Gallagher; telephone: 301-492-3668; email: Carol.Gallagher@nrc.gov.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Gregory Trussell, Office of Federal and State Materials and Environmental Management Programs, U.S. Nuclear Regulatory Commission, Washington, DC 20555-0001, telephone: 301-415-6445, email: Gregory.Trussell@nrc.gov.

SUPPLEMENTARY INFORMATION: On February 17, 2012 (77 FR 9515), the NRC published a direct final rule amending its regulations at Title 10 of the Code of Federal Regulations (10 CFR) 72.214, by revising the Holtec International HI-STORM 100 System listing within the “List of Approved Spent Fuel Storage Casks” to include Amendment No. 8 to CoC Number 1014. In the direct final rule, the NRC stated that if no significant adverse comments were received, the direct final rule would become effective on May 2, 2012. The NRC did not receive any comments on the direct final rule. Therefore, this rule will become effective as scheduled.

Dated at Rockville, Maryland, this 19th day of April 2012.
For the Nuclear Regulatory Commission.
Cindy Bladey,
Chief, Rules, Announcements, and Directives Branch, Division of Administrative Services, Office of Administration.

[FR Doc. 2012-9834 Filed 4-24-12; 8:45 am]

BILLING CODE 7590-01-P